SECURITIES AND EXCHANGE COMMISSION

[Release No. 34-71489; File No. SR-CBOE-2013-107]

Self-Regulatory Organizations; Chicago Board Options Exchange, Incorporated; Notice of Withdrawal of Proposed Rule Change To Amend Its Rules Regarding Option Orders That Include a Stock Component

February 5, 2014.

On October 31, 2013, the Chicago Board Options Exchange, Incorporated (the “Exchange” or “CBOE”) filed with the Securities and Exchange Commission (the “Commission”), pursuant to Section 19(b)(1) of the Securities Exchange Act of 1934 (the “Act”) ¹ and Rule 19b 4 thereunder,² a proposed rule change to amend CBOE's rules regarding option orders that include a stock component. The proposed rule change was published for comment in the Federal Register on November 19, 2013.³ The Commission received two comment letters regarding the proposed rule change.⁴ On December 23, 2013, the Commission extended the time period in which to either approve the proposed rule change, disapprove the proposed rule change, or institute proceedings to determine whether to disapprove the proposed rule change, to February 17, 2014.⁵ On January 31, 2014, the Exchange withdrew the proposed rule change (SR-CBOE-2013-107).

¹ 15 U.S.C. 78s(b)(1).

² 17 CFR 240.19b-4.

³ See Securities Exchange Act Release No. 70857 (November 13, 2013), 78 FR 69487.

⁴ See letters to Elizabeth M. Murphy, Secretary, Commission, from Manisha Kimmel, Executive Director, Financial Information Forum, dated December 10, 2013; and Ellen Greene, Vice President, Securities Industry and Financial Markets Association, dated December 16, 2013.

⁵ See Securities Exchange Act Release No. 71178, 78 FR 79534 (December 30, 2013).

⁶ 17 CFR 200.30-3(a)(31).

For the Commission, by the Division of Trading and Markets, pursuant to delegated authority.⁶
Kevin M. O'Neill,
Deputy Secretary.

[FR Doc. 2014-02877 Filed 2-10-14; 8:45 am]

BILLING CODE 8011-01-P